DEPARTMENT OF COMMERCE

International Trade Administration

[A-525-001, A-351-854, A-891-001, A-729-803, A-428-849, A-484-804, A-533-895, A-560-835, A-475-842, A-580-906, A-523-814, A-485-809, A-801-001, A-856-001, A-791-825, A-469-820, A-583-867, A-489-839]

Common Alloy Aluminum Sheet From Bahrain, Brazil, Croatia, Egypt, Germany, Greece, India, Indonesia, Italy, Republic of Korea, Oman, Romania, Serbia, Slovenia, South Africa, Spain, Taiwan and the Republic of Turkey: Initiation of Less-Than-Fair-Value Investigations

AGENCY: Enforcement and Compliance, International Trade Administration, Department of Commerce.

DATES: Applicable March 30, 2020.

FOR FURTHER INFORMATION CONTACT: Allison Hollander at (202) 482-2805 (Bahrain); Shanah Lee at (202) 482-6386 (Brazil); Irene Gorelik at (202) 482-6905 (Croatia); Magd Zalok at (202) 482-4162 (Egypt); Jonathan Hill at (202) 482-3518 (Germany); Samantha Kinney at (202) 482-2285 (Greece); Jasun Moy at (202) 482-8194 (India); Preston Cox at (202) 482-5041 (Indonesia); Kathryn Wallace at (202) 482-6251 (Italy); Annathea Cook at (202) 482-0250 (Republic of Korea (Korea)); Chelsey Simonovich at (202) 482-1979 (Oman); Krisha Hill at (202) 482-4037 (Romania); Katherine Johnson at (202) 482-4929 (Serbia); Allison Hollander at (202) 482-2805 (Slovenia); Peter Zukowski at (202) 482-0189 (South Africa); Rachel Greenberg at (202) 482-0652 (Spain); Kathryn Turlo at (202) 482-3870 (Taiwan); and Sean Carey at (202) 482-3964 (Republic of Turkey (Turkey)); AD/CVD Operations, Enforcement and Compliance, International Trade Administration, U.S. Department of Commerce, 1401 Constitution Avenue NW, Washington, DC 20230.

SUPPLEMENTARY INFORMATION:

The Petitions

On March 9, 2020, the U.S. Department of Commerce (Commerce) received antidumping duty (AD) petitions concerning imports of common alloy aluminum sheet (aluminum sheet) from Bahrain, Brazil, Croatia, Egypt, Germany, Greece, India, Indonesia, Italy, Korea, Oman, Romania, Serbia, Slovenia, South Africa, Spain, Taiwan, and Turkey filed in proper form on behalf the petitioners,¹ domestic producers of aluminum sheet.² The Petitions were accompanied by countervailing duty (CVD) petitions concerning imports of aluminum sheet from Bahrain, Brazil, India and Turkey.³

¹ The Aluminum Association Common Alloy Aluminum Sheet Trade Enforcement Working Group and its Individual Members, Aleris Rolled Products, Inc., Arconic, Inc., Constellium Rolled Products Ravenswood, LLC, JW Aluminum Company, Novelis Corporation, and Texarkana Aluminum, Inc.

² See Petitioners' Letter, “Common Alloy Aluminum Sheet from Bahrain, Brazil, Croatia, Egypt, Germany, Greece, India, Indonesia, Italy, Korea, Oman, Romania, Serbia, Slovenia, South Africa, Spain, Taiwan and Turkey—Petition for the Imposition of Antidumping and Countervailing Duties,” dated March 9, 2020 (the Petitions).

³ Id.

Between March 12 and 20, 2020, Commerce requested supplemental information pertaining to certain aspects of the Petitions in separate supplemental questionnaires.⁴ The petitioners filed responses to the supplemental questionnaires between March 16 through 23, 2020.⁵

⁴ See Commerce's Letters, “Petition for the Imposition of Antidumping Duties on Imports of Common Alloy Aluminum Sheet from Bahrain, Brazil, Croatia, Egypt, Germany, Greece, India, Indonesia, Italy, Korea, Oman, Romania, Serbia, Slovenia, South Africa, Spain, Taiwan and Turkey: Supplemental Questions,” dated March 13, 2020 (General Issues Supplemental); and country specific supplemental questionnaires: Bahrain Supplemental, Brazil Supplemental, Croatia Supplemental, Egypt Supplemental, Germany Supplemental, Greece Supplemental, India Supplemental, Indonesia Supplemental, Italy Supplemental, Korea Supplemental, Oman Supplemental, Romania Supplemental, Serbia Supplemental, Slovenia Supplemental, South Africa Supplemental, Spain Supplemental, Taiwan Supplemental, and Turkey Supplemental, dated March 12, 2020 or March 13, 2020; see also country-specific Memoranda regarding telephone conversation with counsel for the petitioners, dated March 20, 2020.

⁵ See Petitioners' First country-specific Supplemental Responses, dated March 16, 2020 through March 18, 2020; see also Petitioners' Letter, “Common Alloy Aluminum Sheet from Bahrain, Brazil, Croatia, Egypt, Germany, Greece, India, Indonesia, Italy, Korea, Oman, Romania, Serbia, Slovenia, South Africa, Spain, Taiwan and Turkey—Petitioners' Amendments to Volume I Relating to General Issues,” dated March 17, 2020 (General Issues Supplement); Petitioners' Letters, “Petitioners' Revised Confidential Foreign Market Research Declarations,” dated between March 17, 2020 and March 18, 2020; Second country-specific Supplemental Responses, dated March 20, 2020 through March 23, 2020; and the petitioners' Letter, “Common Alloy Aluminum Sheet from Bahrain, Brazil, Croatia, Egypt, Germany, Greece, India, Indonesia, Italy, Korea, Oman, Romania, Serbia, Slovenia, South Africa, Spain, Taiwan and Turkey—Petitioners' Second Amendment to Volume I Relating to General Issues,” dated March 23, 2020 (Second General Issues Supplement).

In accordance with section 732(b) of the Tariff Act of 1930, as amended (the Act), the petitioners allege that imports of aluminum sheet from Bahrain, Brazil, Croatia, Egypt, Germany, Greece, India, Indonesia, Italy, Korea, Oman, Romania, Serbia, Slovenia, South Africa, Spain, Taiwan, and Turkey are being, or are likely to be, sold in the United States at less than fair value (LTFV) within the meaning of section 731 of the Act, and that imports of such products are materially injuring, or threatening material injury to, the domestic aluminum sheet industry in the United States. Consistent with section 732(b)(1) of the Act, the Petitions are accompanied by information reasonably available to the petitioners supporting their allegations.

Commerce finds that the petitioners filed the Petitions on behalf of the domestic industry, because the petitioners are interested parties, as defined in sections 771(9)(C) and (F) of the Act. Commerce also finds that the petitioners demonstrated sufficient industry support for the initiation of the requested AD investigations.⁶

⁶ See infra, section on “Determination of Industry Support for the Petitions.”

Period of Investigations

Because the Petitions were filed on March 9, 2020, the period of investigation (POI) for these AD investigations is January 1 through December 31, 2019, pursuant to 19 CFR 351.204(b)(1).⁷

⁷ See 19 CFR 351.204(b)(1).

Scope of the Investigations

The products covered by these investigations are aluminum sheet from Bahrain, Brazil, Croatia, Egypt, Germany, Greece, India, Indonesia, Italy, Korea, Oman, Romania, Serbia, Slovenia, South Africa, Spain, Taiwan, and Turkey. For a full description of the scope of these investigations, see the appendix to this notice.

Comments on the Scope of the Investigations

As discussed in the Preamble to Commerce's regulations, we are setting aside a period for interested parties to raise issues regarding product coverage (i.e., scope).⁸ Commerce will consider all comments received from interested parties and, if necessary, will consult with interested parties prior to the issuance of the preliminary determinations. If scope comments include factual information,⁹ all such factual information should be limited to public information. To facilitate preparation of its questionnaires, Commerce requests that all interested parties submit such comments by 5:00 p.m. Eastern Time (ET) on April 20, 2020, which is 20 calendar days from the signature date of this notice.¹⁰ Any rebuttal comments, which may include factual information, must be filed by 5:00 p.m. ET on April 30, 2020, which is ten calendar days from the initial comment deadline.¹¹

⁸ See Antidumping Duties; Countervailing Duties, Final Rule, 62 FR 27296, 27323 (May 19, 1997) (Preamble).

⁹ See 19 CFR 351.102(b)(21) (defining “factual information”).

¹⁰ Commerce practice dictates that where a deadline falls on a weekend or Federal holiday, the appropriate deadline is the next business day (in this instance, April 20, 2020). See Notice of Clarification: Application of “Next Business Day” Rule for Administrative Determination Deadlines Pursuant to the Tariff Act of 1930, As Amended, 70 FR 24533 (May 10, 2005).

¹¹ See 19 CFR 351.303(b).

Commerce requests that any factual information parties consider relevant to the scope of the investigations be submitted during this period. However, if a party subsequently finds that additional factual information pertaining to the scope of the investigations may be relevant, the party may contact Commerce and request permission to submit the additional information. All such submissions must be filed on the records of the concurrent AD and CVD investigations.

Filing Requirements

All submissions to Commerce must be filed electronically via Enforcement and Compliance's Antidumping Duty and Countervailing Duty Centralized Electronic Service System (ACCESS), unless an exception applies.¹² An electronically filed document must be received successfully in its entirety by the time and date it is due.

¹² See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook%20on%20Electronic%20Filling%20Procedures.pdf.

Comments on Product Characteristics

Commerce is providing interested parties an opportunity to comment on the appropriate physical characteristics of aluminum sheet to be reported in response to Commerce's AD questionnaires. This information will be used to identify the key physical characteristics of the subject merchandise in order to report the relevant costs of production accurately, as well as to develop appropriate product-comparison criteria.

Interested parties may provide any information or comments that they feel are relevant to the development of an accurate list of physical characteristics. Specifically, they may provide comments as to which characteristics are appropriate to use as: (1) General product characteristics, and (2) product comparison criteria. We note that it is not always appropriate to use all product characteristics as product comparison criteria. We base product comparison criteria on meaningful commercial differences among products. In other words, although there may be some physical product characteristics utilized by manufacturers to describe aluminum sheet, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on April 20, 2020, which is 20 calendar days from the signature date of this notice.¹³ Any rebuttal comments must be filed by 5:00 p.m. ET on April 30, 2020. All comments and submissions to Commerce must be filed electronically using ACCESS, as explained above, on the record of each of the AD investigations.

¹³ See 19 CFR 351.303(b). Commerce practice dictates that where a deadline falls on a weekend or Federal holiday, the appropriate deadline is the next business day (in this instance, April 20, 2020). See Notice of Clarification: Application of “Next Business Day” Rule for Administrative Determination Deadlines Pursuant to the Tariff Act of 1930, As Amended, 70 FR 24533 (May 10, 2005).

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd 865 F. 2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁶ Based on our analysis of the information submitted on the record, we have determined that aluminum sheet, as defined in the scope, constitutes a single domestic like product, and we have analyzed industry support in terms of that domestic like product.¹⁷

¹⁶ See Volume I of the Petitions at 13-15.

¹⁷ For a discussion of the domestic like product analysis as applied to these cases and information regarding industry support, see country-specific AD Initiation Checklists at Attachment II, Analysis of Industry Support for the Antidumping and Countervailing Duty Petitions Covering Common Alloy Aluminum Sheet from Bahrain, Brazil, Croatia, Egypt, Germany, Greece, India, Indonesia, Italy, Korea, Oman, Romania, Serbia, Slovenia, South Africa, Spain, Taiwan, and Turkey (Attachment II).

In determining whether the petitioners have standing under section 732(c)(4)(A) of the Act, we considered the industry support data contained in the Petitions with reference to the domestic like product as defined in the “Scope of the Investigations,” in the appendix to this notice. To establish industry support, the petitioners provided their 2019 production of the domestic like product.¹⁸ In addition, the petitioners provided 2019 production data for and a letter of support from Jupiter Aluminum Corporation.¹⁹ The petitioners estimated the production of the domestic like product for the entire domestic industry based on shipment data collected by the Aluminum Association, and the Aluminum Association's knowledge of the industry.²⁰ We relied on data provided by the petitioners for purposes of measuring industry support.²¹

¹⁸ See Volume I of the Petitions at 4 and Exhibit GEN-2; see also General Issues Supplement at 3.

¹⁹ See Volume I of the Petitions at 4 and Exhibit GEN-2; see also Second General Issues Supplement.

²⁰ See Volume I of the Petitions at 4 and Exhibits GEN-2 and GEN-3; see also General Issues Supplement at 3.

²¹ See Volume I of the Petitions at 4 and Exhibit GEN-2; see also General Issues Supplement at 3. For further discussion, see Attachment II of the country-specific AD Initiation Checklists.

Our review of the data provided in the Petitions, the General Issues Supplement, the Second General Issues Supplement, and other information readily available to Commerce indicates that the petitioners have established industry support for the Petitions.²² First, the Petitions established support from domestic producers (or workers) accounting for more than 50 percent of the total production of the domestic like product and, as such, Commerce is not required to take further action in order to evaluate industry support (e.g., polling).²³ Second, the domestic producers (or workers) have met the statutory criteria for industry support under section 732(c)(4)(A)(i) of the Act because the domestic producers (or workers) who support the Petitions account for at least 25 percent of the total production of the domestic like product.²⁴ Finally, the domestic producers (or workers) have met the statutory criteria for industry support under section 732(c)(4)(A)(ii) of the Act because the domestic producers (or workers) who support the Petitions account for more than 50 percent of the production of the domestic like product produced by that portion of the industry expressing support for, or opposition to, the Petitions.²⁵ Accordingly, Commerce determines that the Petitions were filed on behalf of the domestic industry within the meaning of section 732(b)(1) of the Act.²⁶

²² Id.

²³ Id.; see also section 732(c)(4)(D) of the Act.

²⁴ See Volume I of the Petitions at 4 and Exhibit GEN-2; see also General Issues Supplement at 3. For further discussion, see Attachment II of the country-specific AD Initiation Checklists.

²⁵ Id.

²⁶ Id.

Allegations and Evidence of Material Injury and Causation

The petitioners allege that the U.S. industry producing the domestic like product is being materially injured, or is threatened with material injury, by reason of the imports of the subject merchandise sold at LTFV. In addition, with regard to Oman, Germany, Bahrain, Indonesia, Taiwan, Turkey, India, South Africa, Korea, Brazil, and Greece, the petitioners allege that subject imports exceed the negligibility threshold provided for under section 771(24)(A) of the Act.²⁷ With regard to Italy, Spain, Egypt, Slovenia, Romania, Croatia, and Serbia, while the allegedly dumped imports from each of these countries do not individually exceed the statutory requirements for negligibility, the petitioners provide data demonstrating that the aggregate import share from these five countries is 9.7 percent, which exceeds the seven percent threshold established by the exception in section 771(24)(A)(ii) of the Act.²⁸ Therefore, the subject imports from these countries are not negligible for purposes of the material injury analysis in these Petitions.²⁹

²⁷ See Volume I of the Petitions at 15-17 and Exhibit GEN-9.

²⁸ Section 771(24)(A)(ii) of the Act states “{i}mports that would otherwise be negligible under clause (i) shall not be negligible if the aggregate volume of imports of the merchandise from all countries described in clause (i) with respect to which investigations were initiated on the same day exceeds 7 percent of the volume of all such merchandise imported in to the United States during the applicable 12-month period.”

²⁹ See Volume I of the Petitions at 15-16 and Exhibit GEN-9.

The petitioners contend that the industry's injured condition is illustrated by a significant and increasing volume of subject imports; reduced market share; underselling and price depression or suppression; lost sales and revenues; declining capacity utilization; a declining number of production and related workers; and a decline in financial performance and profitability.³⁰ We assessed the allegations and supporting evidence regarding material injury, threat of material injury, causation, as well as negligibility, and we have determined that these allegations are properly supported by adequate evidence, and meet the statutory requirements for initiation.³¹

³⁰ See Volume I of the Petitions at 22-37 and Exhibits GEN-7, and GEN-10 through GEN-15.

³¹ See country-specific AD Initiation Checklists at Attachment III, Analysis of Allegations and Evidence of Material Injury and Causation for the Antidumping Duty Petition Petitions Covering Common Alloy Aluminum Sheet from Bahrain, Brazil, Croatia, Egypt, Germany, Greece, India, Indonesia, Italy, Korea, Oman, Romania, Serbia, Slovenia, South Africa, Spain, Taiwan, and Turkey (Attachment III).

Allegations of Sales at LTFV

The following is a description of the allegations of sales at LTFV upon which Commerce based its decision to initiate AD investigations of imports of aluminum sheet from Bahrain, Brazil, Croatia, Egypt, Germany, Greece, India, Indonesia, Italy, Korea, Oman, Romania, Serbia, Slovenia, South Africa, Spain, Taiwan, and Turkey. The sources of data for the deductions and adjustments relating to U.S. price and normal value (NV) are discussed in greater detail in the country-specific AD Initiation Checklists.

U.S. Price

For all countries, the petitioners based export price (EP) or constructed export price (CEP) (as applicable), on pricing information for sales of, or sales offers for, aluminum sheet produced in and exported from each country. The petitioners made certain adjustments to U.S. price to calculate a net ex-factory U.S. price.³²

³² See country-specific AD Initiation Checklists.

Normal Value ³³

³³ In accordance with section 505(a) of the Trade Preferences Extension Act of 2015, amending section 773(b)(2) of the Act, for these investigations, Commerce will request information necessary to calculate the constructed value and cost of production (COP) to determine whether there are reasonable grounds to believe or suspect that sales of the foreign like product have been made at prices that represent less than the COP of the product. Commerce no longer requires a COP allegation to conduct this analysis.

For Bahrain, Brazil, Croatia, Egypt, Germany, Greece, India, Indonesia, Italy, Korea, Oman, Romania, Serbia, Slovenia, Spain, Taiwan, and Turkey, the petitioners based NV on a home market price quote obtained through market research for aluminum sheet produced in and sold, or offered for sale, in each country within the applicable time period.³⁴ For Oman, the petitioners provided information indicating that the price quote was below the COP and, therefore, the petitioners also calculated NV based on constructed value (CV).

³⁴ Id.

For South Africa, the petitioners were unable to obtain a price quote for aluminum sheet produced in and sold, or offered for sale, in South Africa that was usable for comparison to the price of aluminum sheet exported to the United States from South Africa, nor were third country prices reasonably available to the petitioners.³⁵ The petitioners therefore calculated NV based on CV.³⁶

³⁵ See South Africa AD Initiation Checklist.

³⁶ Id.

For further discussion of CV, see the section “Normal Value Based on Constructed Value.”

Normal Value Based on Constructed Value

As noted above, the petitioners were unable to obtain information relating to the prices charged for aluminum sheet produced in South Africa and sold in South Africa, or any third country market, and the price quote obtained for the sale in Oman was below the COP. Accordingly, the petitioners based NV on CV.³⁷ Pursuant to section 773(e) of the Act, the petitioners calculated CV as the sum of the cost of manufacturing, selling, general, and administrative expenses, financial expenses, and profit.³⁸

³⁷ See country-specific AD Initiation Checklists for details of calculations.

³⁸ See Oman AD Initiation Checklist and South Africa AD Initiation Checklist.

Fair Value Comparisons

Based on the data provided by the petitioners, there is reason to believe that imports of aluminum sheet from Bahrain, Brazil, Croatia, Egypt, Germany, Greece, India, Indonesia, Italy, Korea, Oman, Romania, Serbia, Slovenia, South Africa, Spain, Taiwan, and Turkey are being, or are likely to be, sold in the United States at LTFV. Based on comparisons of EP or CEP, as applicable, to NV in accordance with sections 772 and 773 of the Act, the estimated dumping margins for aluminum sheet for each of the countries covered by this initiation are as follows: (1) Bahrain—58.45 percent; (2) Brazil—17.96 and 27.01 percent; (3) Croatia—13.79 percent; (4) Egypt—31.50 percent; (5) Germany—37.22 percent; (6) Greece—61.87 percent; (7) India—122.80 to 151.00 percent; (8) Indonesia—32.12 percent; (9) Italy—29.13 percent; (10) Korea—36.55 and 44.03 percent; (11) Oman—15.90 and 58.17 percent; (12) Romania—12.51 percent; (13) Serbia—25.84 percent; (14) Slovenia—12.95 percent; (15) South Africa—63.27 percent; (16) Spain—24.26 percent; (17) Taiwan—27.22 percent; and (18) Turkey—42.88 percent.³⁹

³⁹ See country-specific Initiation Checklists for details of calculations.

Initiation of LTFV Investigations

Based upon the examination of the Petitions and supplemental responses, we find that they meet the requirements of section 732 of the Act. Therefore, we are initiating AD investigations to determine whether imports of aluminum sheet from Bahrain, Brazil, Croatia, Egypt, Germany, Greece, India, Indonesia, Italy, Korea, Oman, Romania, Serbia, Slovenia, South Africa, Spain, Taiwan, and Turkey are being, or are likely to be, sold in the United States at LTFV. In accordance with section 733(b)(1)(A) of the Act and 19 CFR 351.205(b)(1), unless postponed, we will make our preliminary determinations no later than 140 days after the date of this initiation.

Respondent Selection

In the Petitions, the petitioners named one company in Bahrain, six companies in Brazil, one company in Croatia, one company in Egypt, 37 companies in Germany, two companies in Greece, 14 companies in India, four companies in Indonesia, 20 companies in Italy, 25 companies in Korea, one company in Oman, two companies in Romania, two companies in Serbia, one company in Slovenia, one company in South Africa, 16 companies in Spain, 12 companies in Taiwan, and 21 companies in Turkey ⁴⁰ as producers/exporters of aluminum sheet.

⁴⁰ See Volume I of the Petitions at Exhibit GEN-6.

Following standard practice in AD investigations involving market economy countries, in the event Commerce determines that the number of companies is large and it cannot individually examine each company based upon Commerce's resources, where appropriate, Commerce intends to select mandatory respondents in Brazil, Germany, India, Indonesia, Italy, Korea, Spain, Taiwan, and Turkey based on U.S. Customs and Border Protection (CBP) data for U.S. imports under the appropriate Harmonized Tariff Schedule of the United States numbers listed in the “Scope of the Investigations,” in the appendix.

On March 24, 2020, Commerce released CBP data on imports of aluminum sheet from those countries with a large number of companies, specifically, Brazil, Germany, India, Indonesia, Italy, Korea, Spain, Taiwan, and Turkey under Administrative Protective Order (APO) to all parties with access to information protected by APO and indicated that interested parties wishing to comment on the CBP data must do so within three business days of the publication date of the notice of initiation of these investigations.⁴¹ Commerce will not accept rebuttal comments regarding the CBP data or respondent selection.

⁴¹ See Memoranda, “Antidumping Duty Investigation of Common Alloy Aluminum Sheet: Release of Customs Data from U.S. Customs and Border Protection,” dated March 24, 2020.

Interested parties must submit applications for disclosure under APO in accordance with 19 CFR 351.305(b). Instructions for filing such applications may be found on Commerce's website at http://enforcement.trade.gove/apo.

The petitioners identified one company in Bahrain as the producer/exporter of aluminum sheet (i.e., Gulf Aluminium Rolling Mill Company (GARMCO)), one company in Croatia as the producer/exporter of aluminum sheet (i.e., Impol-TLM,d.o.o.), one company in Egypt as the producer/exporter of aluminum sheet (i.e., Aluminium Co. of Egypt (Egyptalum)), two companies in Greece as producers/exporters of aluminum sheet (i.e., Argiropoulos B.A.E.E and Elval Hellenic Aluminium Industry S.A.), one company in Oman as the producer/exporter aluminum sheet (i.e., Oman Aluminium Rolling Company (OARC)), two companies in Romania as producers/exporters of aluminum sheet (i.e., Alro, S.A. and Vimetco Group), two companies in Serbia as producers/exporters of aluminum sheet (i.e., Impol Seval Aluminium Rolling Mill and Otovici Doo), one company in Slovenia as the producer/exporter of aluminum sheet (i.e., Impol 2000, dd and its subsidiary companies including Impol d.o.o. and Impol FT, d.o.o. (Impol Group)), and one company in South Africa as the producer/exporter of aluminum sheet (i.e., Hulamin Operations (PtY) Ltd.), and provided independent third-party information as support.⁴² We currently know of no additional producers/exporters of aluminum sheet from Bahrain, Croatia, Egypt, Greece, Oman, Romania, Serbia, Slovenia, or South Africa. Accordingly, Commerce intends to individually examine all known producers/exporters in the investigations from these countries (i.e., the companies cited above).

⁴² See country-specific Supplemental Responses dated March 17, 2020 or March 18, 2020.

Parties wishing to comment on respondent selection for Bahrain, Croatia, Egypt, Greece, Oman, Romania, Serbia, Slovenia, or South Africa must do so within three business days of the publication of this notice in the Federal Register. Commerce will not accept rebuttal comments regarding respondent selection for Bahrain, Croatia, Egypt, Greece, Oman, Romania, Serbia, Slovenia, or South Africa. Comments must be filed electronically using ACCESS. An electronically-filed document must be received successfully in its entirety by Commerce's electronic records system, ACCESS, by 5:00 p.m. ET on the specified deadline.

Distribution of Copies of the AD Petitions

In accordance with section 732(b)(3)(A) of the Act and 19 CFR 351.202(f), copies of the public version of the AD Petitions have been provided to the governments of Bahrain, Brazil, Croatia, Egypt, Germany, Greece, India, Indonesia, Italy, Korea, Oman, Romania, Serbia, Slovenia, South Africa, Spain, Taiwan, and Turkey via ACCESS. To the extent practicable, we will attempt to provide a copy of the public version of the AD Petitions to each exporter named in the AD Petitions, as provided under 19 CFR 351.203(c)(2).

ITC Notification

We will notify the ITC of our initiation, as required by section 732(d) of the Act.

Preliminary Determinations by the ITC

The ITC will preliminarily determine, within 45 days after the date on which the AD Petitions were filed, whether there is a reasonable indication that imports of aluminum sheet from Bahrain, Brazil, Croatia, Egypt, Germany, Greece, India, Indonesia, Italy, Korea, Oman, Romania, Serbia, Slovenia, South Africa, Spain, Taiwan, and/or Turkey are materially injuring, or threatening material injury to, a U.S. industry.⁴³ A negative ITC determination for any country will result in the investigation being terminated with respect to that country.⁴⁴ Otherwise, these AD investigations will proceed according to statutory and regulatory time limits.

⁴³ See section 733(a) of the Act.

⁴⁴ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁵ and, if the information is submitted to rebut, clarify, or correct factual information already on the record, to provide an explanation identifying the information already on the record that the factual information seeks to rebut, clarify, or correct.⁴⁶ Time limits for the submission of factual information are addressed in 19 CFR 351.301, which provides specific time limits based on the type of factual information being submitted. Interested parties should review the regulations prior to submitting factual information in these investigations.

⁴⁵ See 19 CFR 351.301(b).

⁴⁶ See 19 CFR 351.301(b)(2).

Particular Market Situation Allegation

Section 504 of the Trade Preferences Extension Act of 2015 amended the Act by adding the concept of particular market situation (PMS) for purposes of CV under section 773(e) of the Act.⁴⁷ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

⁴⁷ See Trade Preferences Extension Act of 2015, Public Law 114-27, 129 Stat. 362 (2015).

Neither section 773(e) of the Act, nor 19 CFR 351.301(c)(2)(v), set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁴⁸ Parties must use the certification formats provided in 19 CFR 351.303(g).⁴⁹ Commerce intends to reject factual submissions if the submitting party does not comply with the applicable certification requirements.

⁴⁸ See section 782(b) of the Act.

⁴⁹ See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)). Note that Commerce has temporarily modified certain of its requirements for serving documents containing business proprietary information, until May 19, 2020, unless extended.⁵⁰

⁵⁰ See Temporary Rule Modifying AD/CVD Service Requirements Due to COVID-19, 85 FR 17006 (March 26, 2020).

This notice is issued and published pursuant to sections 732(c)(2) and 777(i) of the Act, and 19 CFR 351.203(c).

Dated: March 30, 2020.
Jeffrey I. Kessler,
Assistant Secretary for Enforcement and Compliance.

Appendix

Scope of the Investigations

The products covered by these investigations are common alloy aluminum sheet, which is a flat-rolled aluminum product having a thickness of 6.3 mm or less, but greater than 0.2 mm, in coils or cut-to-length, regardless of width. Common alloy sheet within the scope of these investigations includes both not clad aluminum sheet, as well as multi-alloy, clad aluminum sheet. With respect to not clad aluminum sheet, common alloy sheet is manufactured from a IXXX-, 3XXX-, or 5XXX-series alloy as designated by the Aluminum Association. With respect to multi-alloy, clad aluminum sheet, common alloy sheet is produced from a 3XXX-series core, to which cladding layers are applied to either one or both sides of the core.

Common alloy sheet may be made to ASTM specification B209-14 but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of these investigations if performed in the country of manufacture of the common alloy sheet.

Excluded from the scope of these investigations is aluminum can stock, which is suitable for use in the manufacture of aluminum beverage cans, lids of such cans, or tabs used to open such cans. Aluminum can stock is produced to gauges that range from 0.200 mm to 0.292 mm, and has an H-19, H-41, H-48, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3096, 7606.12.6000, 7606.91.3095, 7606.91.6095, 7606.92.3035, and 7606.92.6095. Further, merchandise that falls within the scope of these investigations may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of these investigations is dispositive.

[FR Doc. 2020-07179 Filed 4-6-20; 8:45 am]

BILLING CODE 3510-DS-P